DEPARTMENT OF THE INTERIOR

National Park Service

[NPS-WASO-NRNHL-24881; PPWOCRADI0, PCU00RP14.R50000]

National Register of Historic Places; Notification of Pending Nominations and Related Actions

AGENCY: National Park Service, Interior.

ACTION: Notice.

SUMMARY: The National Park Service is soliciting comments on the significance of properties nominated before January 6, 2018, for listing or related actions in the National Register of Historic Places.

DATES: Comments should be submitted by February 13, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before January 6, 2018. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

FLORIDA

Hillsborough County

Lafayette Street Bridge, Kennedy Blvd. & Hillsborough R., Tampa, MP100002094

Palm Beach County

Old School Square Historic District, Bounded by Lake Ida Rd. NE 1st Ave. SW 2nd St. & N Swinton Ave., Delray Beach, SG100002095

OREGON

Polk County

Spring Valley School, 8295 Spring Valley Rd. NW, Zena, SG100002097

SOUTH CAROLINA

Charleston County

Meggett, W. Gresham, High and Elementary School, 1929 Grimball Rd., Charleston vicinity, MP100002098

SOUTH DAKOTA

Custer County

Wood, Maggie J., House, 303 2nd St., Buffalo Gap, SG100002099

Davison County

Seaman, Louis N. and Helen, House, 300 E 3rd St., Mitchell, SG100002100

Scheurenbrand, Gottlieb and Friederike, House, 700 E Hanson St., Mitchell, SG100002101

Hughes County

Goddard, Celina and Albert, House, 111 S Van Buren, Pierre, SG100002102

Union County

St. Paul Lutheran Church and Cemetery, 31903 475th Ave., Richland vicinity, SG100002103

VERMONT

Washington County

Montpelier Historic District (Boundary Increase II), Monsignor Crosby Ave., Peck Place, Tower Loop Rd., Cross, Downing, Franklin & Wilder Sts., Montpelier, BC100002105

WISCONSIN

Jefferson County

Niedecker, Lorine, Cottage, W7307 Blackhawk Island Rd., Sumner, SG100002106

In the interest of preservation, a SHORTENED comment period has been requested for the following resource(s):

GEORGIA

Fulton County

Trust Company of Georgia Northeast Freeway Branch, 2160 Monroe Dr. NE, Atlanta, SG100002093, Comment period: 3 days

Additional documentation has been received for the following resources:

OREGON

Benton County

Oregon State University Historic District, Monroe and Orchard Ave., 30th St., Washington Wy., Jefferson Ave., 11th St., Corvallis, AD08000546

VERMONT

Washington County

Montpelier Historic District, Roughly Bailey Ave., Baird, Baldwin & Barre Sts., Blanchard Ct., Brown & Cedar Sts., Chapman Rd., et. al., Montpelier, AD78000246

Authority: 60.13 of 36 CFR part 60.

Dated: January 12, 2018.
J. Paul Loether,
Chief, National Register of Historic Places/National Historic Landmarks Program and Keeper, National Register of Historic Places.

[FR Doc. 2018-01633 Filed 1-26-18; 8:45 am]

BILLING CODE 4312-52-P